DEPARTMENT OF ENERGY

Federal Energy Regulatory Commission

Combined Notice of Filings #1

Take notice that the Commission received the following electric rate filings:

Docket Numbers: ER10-1585-018; ER10-1594-018; ER16-733-009; ER10-1617-018; ER10-1619-006; ER19-2908-001; ER16-1148-009; ER10-1625-008; ER12-60-020; ER10-1632-020; ER10-1628-018.

Applicants: Alabama Electric Marketing, LLC, California Electric Marketing, LLC, LQA, LLC, New Mexico Electric Marketing, LLC, Tenaska Alabama Partners, L.P., Tenaska Clear Creek Wind, LLC, Tenaska Energía de Mexico, S. de R.L. de C.V., Tenaska Georgia Partners, L.P., Tenaska Power Management, LLC, Tenaska Power Services Co., Texas Electric Marketing, LLC.

Description: Updated Market Power Analysis for Southeast Region of Tenaska MBR Sellers.

Filed Date: 12/28/20.

Accession Number: 20201228-5488.

Comments Due: 5 p.m. ET 2/26/21.

Docket Numbers: ER10-2721-009.

Applicants: El Paso Electric Company.

Description: Response of El Paso Electric Company.

Filed Date: 12/7/20.

Accession Number: 20201207-5164.

Comments Due: 5 p.m. ET 1/8/21.

Docket Numbers: ER18-1906-006; ER16-221-007; ER18-1907-006; ER17-1757-007; ER10-1767-009; ER10-1532-009; ER10-1541-010; ER10-1642-011; ER13-2349-008; ER13-2350-008.

Applicants: Entergy Arkansas, LLC, Entergy Louisiana, LLC, Entergy Mississippi, LLC, Entergy New Orleans, LLC, Entergy Texas, Inc., Entergy Nuclear Palisades, LLC, Entergy Power, LLC, EWO Marketing, LLC, EAM Nelson Holding, LLC, RS Cogen LLC.

Description: Triennial Market Power Analysis for Central Region and Notice of Non-Material Change in Status of Entergy Central MBR Utilities.

Filed Date: 12/28/20.

Accession Number: 20201228-5573.

Comments Due: 5 p.m. ET 2/26/21.

Docket Numbers: ER19-1217-001.

Applicants: Montana-Dakota Utilities Co.

Description: Triennial Market Power Analysis for Central Region Notice of Change in Status of Montana-Dakota Utilities Co.

Filed Date: 12/28/20.

Accession Number: 20201228-5572.

Comments Due: 5 p.m. ET 2/26/21.

Docket Numbers: ER19-2373-004; ER10-2005-021; ER11-26-021; ER10-1841-021; ER20-1987-002; ER20-1769-002; ER20-122-003; ER19-2461-004; ER20-975-002; ER19-987-008; ER19-1003-008; ER10-1845-021; ER19-2437-004; ER19-1393-008; ER19-1394-008; ER10-1852-049; ER10-1905-021; ER10-1907-020; ER10-1918-021; ER10-1950-021; ER19-2398-005; ER18-2246-009; ER18-1771-010; ER16-1872-011; ER10-1970-020; ER10-1972-020; ER20-1879-002; ER20-1220-002; ER16-2506-012; ER18-2224-010; ER13-2461-015; ER19-2382-004; ER17-2270-012; ER12-1660-020; ER13-2458-015; ER10-2078-021; ER11-4462-052; ER10-1951-031; ER17-838-027.

Applicants: Ashtabula Wind I, LLC, Ashtabula Wind II, LLC, Ashtabula Wind III, LLC, Butler Ridge Wind Energy Center, LLC, Cerro Gordo Wind, LLC, Chicot Solar, LLC, Crowned Ridge Interconnection, LLC, Crowned Ridge Wind, LLC, Crowned Ridge Wind II, LLC, Crystal Lake Wind Energy I, LLC, Crystal Lake Wind Energy II, LLC, Crystal Lake Wind III, LLC, Emmons-Logan Wind, LLC, Endeavor Wind I, LLC, Endeavor Wind II, LLC, Florida Power & Light Company, FPL Energy Mower County, LLC, FPL Energy North Dakota Wind, LLC, FPL Energy North Dakota Wind II, LLC, Garden Wind, LLC, Hancock County Wind, LLC, Heartland Divide Wind Project, LLC, Langdon Renewables, LLC, Marshall Solar, LLC, NextEra Energy Duane Arnold, LLC, NextEra Energy Point Beach, LLC, Oliver Wind I, LLC, Oliver Wind Energy Center II, LLC, Oliver Wind III, LLC, Pegasus Wind, LLC, Pheasant Run Wind, LLC, Story County Wind, LLC, Stuttgart Solar, LLC, Tuscola Bay Wind, LLC, Tuscola Wind II, LLC, White Oak Energy LLC, NEPM II, LLC, NextEra Energy Services Massachusetts, LLC, NextEra Energy Marketing, LLC.

Description: Notice of Change in Status of NextEra Resources.

Filed Date: 12/21/20.

Accession Number: 20201221-5501.

Comments Due: 5 p.m. ET 1/11/21.

Docket Numbers: ER21-301-001.

Applicants: San Diego Gas & Electric Company.

Description: Tariff Amendment: 2021 TRBAA Update Amendment to be effective 1/1/2021.

Filed Date: 12/28/20.

Accession Number: 20201228-5332.

Comments Due: 5 p.m. ET 1/19/21.

Docket Numbers: ER21-750-000.

Applicants: Public Service Company of Colorado.

Description: Tariff Cancellation: 2020-12-29 PSC-NXER-E&P-Thunderwolf-563-NOC-0.1.0 to be effective 12/30/2020.

Filed Date: 12/29/20.

Accession Number: 20201229-5007.

Comments Due: 5 p.m. ET 1/19/21.

Docket Numbers: ER21-751-000.

Applicants: PJM Interconnection, L.L.C.

Description: § 205(d) Rate Filing: Original ISA, Service Agreement No. 5859; Queue No. AC1-078 to be effective 11/30/2020.

Filed Date: 12/29/20.

Accession Number: 20201229-5010.

Comments Due: 5 p.m. ET 1/19/21.

Docket Numbers: ER21-752-000.

Applicants: Southwest Power Pool, Inc.

Description: § 205(d) Rate Filing: 1067R11 East Texas Electric Cooperative NITSA NOA to be effective 12/1/2020.

Filed Date: 12/29/20.

Accession Number: 20201229-5132.

Comments Due: 5 p.m. ET 1/19/21.

Docket Numbers: ER21-753-000.

Applicants: GenOn California South, LP.

Description: § 205(d) Rate Filing: Market-Based Rate Tariff Revisions to be effective 12/30/2020.

Filed Date: 12/29/20.

Accession Number: 20201229-5173.

Comments Due: 5 p.m. ET 1/19/21.

Docket Numbers: ER21-754-000.

Applicants: Tri-State Generation and Transmission Association, Inc.

Description: Baseline eTariff Filing: Tri-State Submission of Western Nebraska Joint Transmission Agreement to be effective 12/29/2020.

Filed Date: 12/29/20.

Accession Number: 20201229-5206.

Comments Due: 5 p.m. ET 1/19/21.

Docket Numbers: ER21-755-000.

Applicants: Southwest Power Pool, Inc.

Description: § 205(d) Rate Filing: 1875R4 Kansas Electric Power Cooperative, Inc. NITSA and NOA to be effective 12/1/2020.

Filed Date: 12/29/20.

Accession Number: 20201229-5213.

Comments Due: 5 p.m. ET 1/19/21.

Docket Numbers: ER21-756-000.

Applicants: Tri-State Generation and Transmission Association, Inc.

Description: Tariff Cancellation: Tri-State Notice of Termination to be effective 3/1/2021.

Filed Date: 12/29/20.

Accession Number: 20201229-5225.

Comments Due: 5 p.m. ET 1/19/21.

Docket Numbers: ER21-758-000.

Applicants: Southwest Power Pool, Inc.

Description: § 205(d) Rate Filing: 2065R4 Evergy Kansas Central, Inc. NITSA NOA to be effective 12/1/2020.

Filed Date: 12/29/20.

Accession Number: 20201229-5276.

Comments Due: 5 p.m. ET 1/19/21.

Docket Numbers: ER21-759-000.

Applicants: Unitil Energy Systems, Inc.

Description: § 205(d) Rate Filing: UES and Briar Hydro Wheeling Agreement to be effective 12/28/2020.

Filed Date: 12/29/20.

Accession Number: 20201229-5285.

Comments Due: 5 p.m. ET 1/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2020.
Nathaniel J. Davis, Sr.,
Deputy Secretary.

[FR Doc. 2020-29163 Filed 1-4-21; 8:45 am]

BILLING CODE 6717-01-P